NUCLEAR REGULATORY COMMISSION

[Docket Nos. 50-334 and 50-412; NRC-2015-0143]

FirstEnergy Nuclear Operating Company; Beaver Valley Power Station, Unit Nos. 1 and 2

AGENCY: Nuclear Regulatory Commission.

ACTION: Environmental assessment and finding of no significant impact; issuance.

SUMMARY: The U.S. Nuclear Regulatory Commission (NRC) is considering issuance of an amendment to Renewed License Nos. DPR-66 and NPF-73, issued on November 5, 2009, and held by FirstEnergy Nuclear Operating Company for the operation of Beaver Valley Power Station, Unit Nos. 1 and 2 (BVPS). The proposed action would revise the Emergency Preparedness Plan (EPP) to modify the boundary of the 10-mile Emergency Planning Zone (EPZ). Specifically, the proposed change would align the BVPS EPZ boundary with the boundary that is currently in use by the emergency management agencies of the three counties that implement protective actions around BVPS.

DATES: June 10, 2015.

ADDRESSES: Please refer to Docket ID NRC-2015-0143 when contacting the NRC about the availability of information regarding this document. You may obtain publicly-available information related to this document using any of the following methods:

• Federal Rulemaking Web site: Go to http://www.regulations.gov and search for Docket ID NRC-2015-0143. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Taylor Lamb, Office of Nuclear Reactor Regulation, U.S. Nuclear Regulatory Commission, Washington DC 20555-0001; telephone: 301-415-7128, email: Taylor.Lamb@nrc.gov.

SUPPLEMENTARY INFORMATION:

I. Introduction

The NRC is considering issuance of an amendment to Renewed License Nos. DPR-66 and NPF-73, issued to FirstEnergy Nuclear Operating Company, for operation of the Beaver Valley Power Station, Unit Nos. 1 and 2, (BVPS) located in Beaver County, Pennsylvania. Therefore, as required by section 51.21 of Title 10 of the Code of Federal Regulations (10 CFR), the NRC performed an environmental assessment. Based on the results of the environmental assessment that follows, the NRC has determined not to prepare an environmental impact statement for the amendment, and is issuing a finding of no significant impact.

II. Environmental Assessment

Description of the Proposed Action

The proposed action would revise the Emergency Preparedness Plan (EPP) to modify the boundary of the 10-mile Emergency Planning Zone (EPZ). Specifically, the proposed change would align the BVPS EPZ boundary with the boundary that is currently in use by the emergency management agencies of the three counties that implement protective actions around BVPS.

The proposed action is requested by the licensee's application dated September 4, 2014 (ADAMS Accession No. ML14247A512), as supplemented by letter dated December 1, 2014 (ADAMS Accession No. ML14336A520).

Need for the Proposed Action

The proposed action would align the BVPS EPZ boundary with the boundary that is currently in use by the emergency management agencies of the three counties that implement protective actions around BVPS.

The proposed action is needed to address the dissimilarity between the BVPS EPZ and that of Columbiana County, Ohio; Hancock County, West Virginia; and Beaver County, Pennsylvania. After 2002, the emergency management agencies of the three counties modified their emergency plans to reflect the geopolitical boundaries for the 10-mile EPZ proposed for BVPS. The regulations in 10 CFR 50.47(c)(2) provide that the exact configuration of the 10-mile EPZ is to be determined in relation to local emergency response needs and capabilities as they are affected by such conditions as demography, topography, land characteristics, access routes, and jurisdictional boundaries. The proposed revised 10-mile EPZ boundary is used in an evacuation time estimate (ETE) that was developed for BVPS. The ETE, “Beaver Valley Power Station Development of Evacuation Time Estimates,” December 2012, Final Report Revision 2, prepared by KLD Engineering, P.C. (ADAMS Accession No. ML130070160), was based on United States Census Bureau data for 2010. As a result of changes to the county emergency plans, BVPS proposed to make conforming changes to the BVPS 10-mile EPZ boundary in the EPP.

BVPS performed an analysis of the proposed change. The county emergency plans describe actions that would be applicable for events at BVPS that warrant a protective action of sheltering or evacuation. The BVPS analysis concluded that aligning the BVPS EPP 10-mile EPZ with the EPZ boundaries used by the offsite response organizations will ensure consistent communications are used when determining actions to protect the public health and safety.

Environmental Impacts of the Proposed Action

The NRC has completed its environmental assessment of the proposed amendment. The staff has concluded that the proposed action to align the BVPS EPZ boundary with the boundary that is currently in use by the emergency management agencies of the three counties implementing protective actions around BVPS would not significantly affect plant safety and would not have a significant adverse effect on the probability of an accident occurring.

The proposed action would not result in an increased radiological hazard beyond those previously analyzed in the updated Safety Analysis Report. There will be no change to radioactive effluents that effect radiation exposures to plant workers and members of the public. No changes will be made to plant buildings or the site property. Therefore, no changes or different types of radiological impacts are expected as a result of the proposed amendment.

The proposed action does not result in changes to land use or water use, or result in changes to the quality or quantity of non-radiological effluents. No changes to the National Pollution Discharge Elimination System permit are needed. No effects on the aquatic or terrestrial habitat in the vicinity or the plant, or to threatened, endangered, or protected species under the Endangered Species Act, or impacts to essential fish habitat covered by the Magnuson-Stevens Act are expected. There are no impacts to the air or ambient air quality. There are no impacts to historical and cultural resources. There would be no noticeable effect on socioeconomic conditions in the region. Therefore, no changes or different types of non-radiological environmental impacts are expected as a result of the proposed action.

Accordingly, the NRC concludes that there are no significant environmental impacts associated with the proposed action.

Environmental Impacts of the Alternatives to the Proposed Action

As an alternative to the proposed action, the staff considered denial of the proposed action (i.e., the “no-action” alternative). Denial of the application would result in no change in current environmental impacts. The environmental impacts of the proposed action and the alternative action are similar.

Alternative Use of Resources

The action does not involve the use of any different resources than those previously considered in NUREG-1437, Supplement 36, “Generic Environmental Impact Statement for License Renewal of Nuclear Plants; Supplement 36; Regarding Beaver Valley Power Station Units 1 and 2,” dated May 2009 (ADAMS Accession No. ML091260011).

Agencies and Persons Consulted

On April 30, 2015, the staff consulted with the Pennsylvania State official, Mr. Rich Janati, regarding the environmental impact of the proposed action. The state official agreed with the conclusions in the environmental assessment and finding of no significant impact.

III. Finding of No Significant Impact

The NRC is considering issuance of an amendment to Renewed License Nos. DPR-66 and NPF-73 for BVPS, Units 1 and 2. The proposed amendments would revise the EPP to modify the boundary of the 10-mile EPZ. Specifically, the proposed change would align the BVPS EPZ boundary with the boundary that is currently in use by the emergency management agencies of the three counties that implement protective actions around BVPS.

The NRC has determined not to prepare an environmental impact statement for the proposed action. The proposed action will not have a significant effect on the quality of the human environment because amending the licenses to revise the EPP to align the EPZ boundary with the boundary that is currently in use by the emergency management agencies of the three counties that implement protective actions around BVPS will not result in any significant radiological or non-radiological environmental impacts. Accordingly, on the basis of the environmental assessment in Section II above, which is incorporated by reference herein, the NRC has determined that a finding of no significant impact is appropriate.

The NRC's finding of no significant impact and incorporated environmental assessment are available for public inspection by publication in this notice and are available online in ADAMS at Accession No. ML15125A217. Environmental documents related to the NRC's finding of no significant impact are (1) Supplement 36 to NUREG-1437, “Generic Environmental Impact Statement for License Renewal of Nuclear Plants; Regarding Beaver Valley Power Station Units 1 and 2,” dated May 2009; and (2) Generic Environmental Impact Statement for License Renewal of Nuclear Plants,” NUREG-1437, Volume 1, Revision 1, dated June 2013 (ADAMS Accession No. ML13106A241). All documents described above are also available for public inspection at the NRC's Public Document Room as described in the ADDRESSES section, above.

Dated at Rockville, Maryland, this 29th day of May 2015.
For the Nuclear Regulatory Commission.
Douglas A. Broaddus,
Chief, Plant Licensing Branch I-2, Division of Operating Reactor Licensing, Office of Nuclear Reactor Regulation.

[FR Doc. 2015-14138 Filed 6-9-15; 8:45 am]

BILLING CODE 7590-01-P